DEPARTMENT OF HOMELAND SECURITY

Coast Guard

33 CFR Part 117

[USCG-09-0210]

Drawbridge Operation Regulations; Hackensack River, Jersey City, NJ, Maintenance

AGENCY: Coast Guard, DHS.

ACTION: Notice cancelling temporary deviation from regulations.

SUMMARY: The Coast Guard is cancelling the temporary deviation concerning the operation of the Witt Penn Bridge across the Hackensack River at mile 3.1, across the Hackensack River, at Jersey City, New Jersey. A temporary deviation was previously approved for the Lower Hack Bridge at mile 3.4 across the Hackensack River and notice of that temporary deviation was made along with the notice for the Witt Penn Bridge. This temporary deviation was issued to facilitate bridge maintenance for the above bridges; however, the maintenance for the Witt Penn Bridge has been postponed necessitating the early cancellation of that portion of the temporary deviation. The maintenance of the Lower Hack Bridge will continue as planned, and the temporary deviation approved for the Lower Hack Bridge remains in effect. Once new dates are provided for the maintenance of the Witt Penn Bridge any new temporary deviation will be published in the Federal Register.

DATES: The temporary deviation published on April 29, 2009 (74 FR 19421) pertaining to the Witt Penn Bridge across the Hackensack River at mile 3.1, across the Hackensack River, at Jersey City, New Jersey is cancelled as of June 23, 2009.

ADDRESSES: The docket for this cancelled deviation is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, selecting the Advanced Docket Search option on the right side of the screen, inserting USCG-2009-0210 in the Docket ID box, pressing Enter, and then clicking on the item in the Docket ID column.

FOR FURTHER INFORMATION CONTACT: Gary Kassof, Project Officer, First Coast Guard District, gary.kassof@uscg.mil, telephone 212-668-7165.

SUPPLEMENTARY INFORMATION:

Background and Purpose

On April 29, 2009, we published a temporary deviation entitled “Drawbridge Operation Regulations; New Jersey” in the Federal Register (71 FR 19421). The temporary deviation concerned the Witt Penn Bridge at mile 3.1, and the Lower Hack Bridge, mile 3.4, both across the Hackensack River at Jersey City, New Jersey.

Cancellation

The Coast Guard received an additional request from the bridge owner of the Witt Penn Bridge, New Jersey Department of Transportation, on June 10, 2009, requesting the cancellation of the temporary deviation for the Witt Penn Bridge because the scheduled maintenance repairs did not begin on schedule due to a contractual dispute.

The work for the Lower Hack Bridge began on schedule and will continue through July 22, 2009, as planned.

The remaining bridge closure time period necessary to complete the maintenance work for the Lower Hack Bridge remains in effect through July 22, 2009. If granted, a temporary deviation for the Witt Penn Bridge covering the revised maintenance work period will be published under a new temporary deviation in the Federal Register.

The need to cancel the temporary deviation for the scheduled maintenance at the Witt Penn Bridge was due to a contractual dispute which delayed the start date of the bridge maintenance.

Dated: June 17, 2009.
Gary Kassof,
Bridge Program Manager, First Coast Guard District.

[FR Doc. E9-16397 Filed 7-10-09; 8:45 am]

BILLING CODE 4910-15-P